DEPARTMENT OF THE INTERIOR

Bureau of Indian Affairs

The Confederated Tribes of the Grand Ronde Community of Oregon

AGENCY: Bureau of Indian Affairs, Interior.

ACTION: Notice.

SUMMARY: This notice publishes an amendment to the Tribal Code (Code), Liquor Ordinance, for the Confederated Tribes of the Grand Ronde Community of Oregon first published in the Federal Register July 1, 1996. The amendment regulates and controls the possession and consumption of liquor within the tribal lands. The tribal lands are located in Indian country and this amended Code allows for possession of alcoholic beverages within their boundaries. This Code will increase the ability of the tribal government to control liquor possession, sale and in the community.

DATES: Effective Date: This Ordinance is effective on December 8, 2008.

FOR FURTHER INFORMATION CONTACT: Betty Scissons, Tribal Government Services Officer, Northwest Regional Office, 911 NE 11th Ave., 8th Floor, Portland, OR 97232, Telephone: (503) 231-6723, Fax (503) 231-2189; or Elizabeth Colliflower, Office of Indian Services, 1849 C Street, NW., Mail Stop 4513-MIB, Washington, DC 20240, Telephone: (202) 513-7640.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Confederated Tribes of the Grand Ronde Community of Oregon amended the liquor control section of its Tribal Code by Resolution No. 101-08 on June 18, 2008. The purpose of this amended code is to govern the possession of alcohol within tribal lands of the Tribe.

This notice is published in accordance with the authority delegated by the Secretary of the Interior to the Assistant Secretary—Indian Affairs. I certify that this Liquor Control Ordinance of the Code of the Confederated Tribes of the Grand Ronde Community of Oregon was duly adopted by the Tribal Council, on June 18, 2008.

Dated: November 24, 2008.
George T. Skibine,
Acting Deputy Assistant Secretary for Policy and Economic Development.

The Confederated Tribes of the Grand Ronde Community of Oregon Liquor Control Code reads as follows:

The Confederated Tribes of the Grand Ronde Community of Oregon

Liquor Ordinance

Tribal Code § 760

(a) Authority and Purpose:

(1) The authority for the Ordinance and its adoption by Tribal Council is found in the Tribal Constitution under Article III, Section 1, and in the Act of August 15, 1953, Public Law 83-277, 18 U.S.C. 1161.

(2) This Ordinance is for the purpose of regulating the sale, possession and use of alcoholic liquor on the Grand Ronde Reservation and other lands subject to Tribal jurisdiction.

(b) Definitions:

To the extent that definitions are consistent with tribal or federal law, terms used herein shall have the same meaning as defined in Oregon Revised Statutes Chapter 471, and in Oregon Administrative Rules Chapter 845.

(1)“Alcoholic liquor” shall mean any alcoholic beverage containing more than one-half of one percent alcohol by volume, and every liquid or solid, patented or not, containing alcohol and capable of being consumed by a human being.

(2)“Grand Ronde Reservation” shall mean all lands held in trust by the United States for the Tribe or its members and all lands owned by the Tribe, wherever located.

(3) Whenever the words “sell” or “to sell” refer to anything forbidden by this Chapter and related to alcoholic liquor, they include:

(A) To solicit or receive an order.

(B) To keep or expose for sale.

(C) To deliver for value or in any way other than purely gratuitously.

(D) To peddle.

(E) To keep with intent to sell.

(F) To traffic in.

(G) For any consideration, promise or obtained directly or indirectly under any pretext or by any means or procure or allow to be procured for any other person.

(4) The word “sale” includes every act of selling as defined in subsection 3 of this section.

(c) Prohibited Activity:

(1) It shall be unlawful for any person to sell, trade or manufacture any alcoholic liquor on the Grand Ronde Reservation except as provided for in this Ordinance.

(2) It shall be unlawful for any business establishment or person on the Grand Ronde Reservation to possess, transport or keep with intent to sell, barter or trade to another, any liquor, except for those commercial liquor establishments on the Grand Ronde Reservation licensed by the Tribe, provided, however, that a person may transport liquor from a licensed establishment consistent with the terms of the license.

(3) It shall be unlawful for any person to consume alcoholic liquor on a public highway.

(4) It shall be unlawful for any person to publicly consume any alcoholic liquor at any community function, or at or near any place of business, Indian celebration grounds, recreational areas, including ballparks, and public camping areas, the Tribal Headquarters area and any other area where minors gather for meetings or recreation, except within a tribally licensed establishment where alcohol is sold.

(5) It shall be unlawful for any person under the age of 21 years to buy, attempt to buy or to misrepresent their age in attempting to buy, alcoholic liquor. It shall be unlawful for any person under the age of 21 years to transport, possess or consume any alcoholic liquor on the Grand Ronde Reservation, or to be under the influence of alcohol or to be at an established commercial liquor establishment, except as authorized under Section (e) of this Ordinance. No person shall sell or furnish alcoholic liquor to any minor.

(6) Alcoholic liquor may not be given as a prize, premium or consideration for a lottery, contest, game of chance or skill, or competition of any kind.

(d) Procedure for License:

(1) Any request for a license under this Ordinance must be presented to the Tribal Council at least 30 days prior to the requested effective date. Tribal Council shall set license conditions at least as strict as those required by federal law, including at a minimum:

(A) Liquor may only be served and handled in a manner no less strict than allowed under Oregon Revised Statutes Chapter 471.

(B) Liquor may only be served by staff of the licensee; and

(C) Liquor may be served in rooms where gambling is taking place if authorized by Tribal Council resolution.

(2) Council action on a license request must be taken at a regular or special meeting. Unless the request is for a special event license, the Council shall give at least 14 days' notice of the meeting at which the request will be considered. Notice shall be posted at the Tribal Council offices and at the establishment requesting the license, and will be sent by Certified Mail to the Oregon Liquor Control Commission.

(e) Sale or Service of Liquor by Licensee's Minor Employees:

(1) The holder of a license issued under this Ordinance or Oregon Revised Statutes Chapter 472 may employ persons 18, 19 and 20 years of age who may take orders for, serve and sell alcoholic liquor in any part of the licensed premises when that activity is incidental to the serving of food except in those areas classified by the Oregon Liquor Control Commission as being prohibited to the use of minors. However, no person who is 18, 19 or 20 years of age shall be permitted to mix, pour or draw alcoholic liquor except when pouring is done as a service to the patron at the patron's table or drawing is done in a portion of the premises not prohibited to minors.

(2) Except as stated in this section, it shall be unlawful to hire any person to work in connection with the sale and service of alcoholic beverages in a tribally licensed liquor establishment if such person is under the age of 21 years.

(f) Warning Signs Required.

(1) Any person in possession of a valid retail liquor license, who sells liquor by the drink for consumption on the premises or sells for consumption off the premises, shall post a sign informing the public of the effects and risks of alcohol consumption during pregnancy.

(2) The sign shall:

(A) Contain the message: “Pregnancy and alcohol do not mix. Drinking alcoholic beverages, including wine, coolers and beer, during pregnancy can cause birth defects.”

(B) Be either:

(i) A large sign, no smaller than eight and one-half inches by 11 inches in size with lettering no smaller than five-eighths of an inch in height; or

(ii) A reduced sign, five by seven inches in size with lettering of the same proportion as the large sign described in paragraph (a) of this subsection.

(C) Contain a graphic depiction of the message to assist nonreaders in understanding the message. The depiction of a pregnant female shall be universal and shall not reflect a specific race or culture.

(D) Be in English unless a significant number of the patrons of the retail premises use a language other than English as a primary language. In such cases, the sign shall be worded both in English and the primary language or languages of the patrons.

(E) Be displayed on the premises of all licensed retail liquor premises as either a large sign at the point of entry, or a reduced sized sign at points of sale.

(3) The person described in subsection (1) of this section shall also post signs of any size at places where alcoholic beverages are displayed.

(g) Civil Penalty:

(1) Any person who violates the provisions of this Ordinance is deemed to have consented to the jurisdiction of the Tribal Court and may be subject to a civil penalty in Tribal Court for a civil infraction. Such civil penalty shall not exceed the sum of $1,000 for each such infraction, provided, however, that the penalty shall not exceed $5,000 if it involves minors.

(2) The procedures governing the adjudication in Tribal Court of such civil infractions shall be those set out in the Trial Court rules.

(3) The Tribal Council hereby specifically finds that such civil penalties are reasonably necessary and are related to the expense of governmental administration necessary in maintaining law and order and public safety on the Reservation and in managing, protecting and developing the natural resources on the Reservation. It is the legislative intent of the Tribal Council that all violations of this Chapter, whether committed by tribal members, non-member Indians, or non-Indians, be considered civil in nature rather than criminal.

(h) Severability:

(1) If a court of competent jurisdiction finds any provision of this Ordinance to be invalid or illegal under applicable Federal or Tribal law, such provision shall be severed from this Ordinance and the remainder of this Ordinance shall remain in full force and effect.

(i) Consistency with State Law:

(1) The Tribe will comply with Oregon Liquor Laws to the extent required by 18 U.S.C. 1161.

(j) Effective Date:

(1) This Ordinance shall be effective upon publication in the Federal Register after approval by the Secretary of the Interior or his designee.

I certify this to be a true copy of the Confederated Tribes of the Grand Ronde Community of Oregon Liquor Ordinance.

Jack Giffen, Jr.

Tribal Council Secretary.

[FR Doc. E8-29023 Filed 12-5-08; 8:45 am]

BILLING CODE 4310-4J-P